INTERNATIONAL TRADE COMMISSION

[Investigation Nos. 731-TA-1124 and 1125 (Preliminary)]

Electrolytic Manganese Dioxide From Australia and China

Determinations

On the basis of the record ¹ developed in the subject investigations, the United States International Trade Commission (Commission) determines, pursuant to section 733(a) of the Tariff Act of 1930 (19 U.S.C. 1673b(a)) (the Act), that there is a reasonable indication that an industry in the United States is materially injured by reason of imports from Australia and China of electrolytic manganese dioxide, provided for in subheading 2820.10.00 of the Harmonized Tariff Schedule of the United States, that are alleged to be sold in the United States at less than fair value (LTFV).²

¹ The record is defined in sec. 207.2(f) of the Commission's Rules of Practice and Procedure (19 CFR 207.2(f)).

² Commissioner Dean A. Pinkert recused himself to avoid any conflict of interest or appearance of a conflict.

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (Commerce) of an affirmative preliminary determination in the investigations under section 733(b) of the Act, or, if the preliminary determination is negative, upon notice of an affirmative final determination in the investigations under section 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On August 22, 2007, a petition was filed with the Commission and Commerce by Tronox LLC, Oklahoma City, OK, alleging that an industry in the United States is materially injured and threatened with further material injury by reason of LTFV imports of electrolytic manganese dioxide from Australia and China. Accordingly, effective August 22, 2007, the Commission instituted antidumping duty investigation Nos. 731-TA-1124 and 1125 (Preliminary).

Notice of the institution of the Commission's investigations and of a public conference to be held in connection therewith was given by posting copies of the notice in the Office of the Secretary, U.S. International Trade Commission, Washington, DC, and by publishing the notice in the Federal Register of August 28, 2007 (72 FR 49309). The conference was held in Washington, DC, on September 12, 2007, and all persons who requested the opportunity were permitted to appear in person or by counsel.

The Commission transmitted its determinations in these investigations to the Secretary of Commerce on October 9, 2007. The views of the Commission are contained in USITC Publication 3955 (October 2007), entitled Electrolytic Manganese Dioxide from Australia and China: Investigation Nos. 1124 and 1125 (Preliminary).

Issued: October 18, 2007.
By order of the Commission.
Marilyn R. Abbott,
Secretary to the Commission.

[FR Doc. E7-20908 Filed 10-23-07; 8:45 am]

BILLING CODE 7020-02-P